DEPARTMENT OF THE INTERIOR

National Park Service

[NPS-WASO-NAGPRA-NPS0040474; PPWOCRADN0-PCU00RP14.R50000]

Notice of Inventory Completion: Oregon Historical Society, Portland, OR

AGENCY: National Park Service, Interior.

ACTION: Notice.

SUMMARY: In accordance with the Native American Graves Protection and Repatriation Act (NAGPRA), the Oregon Historical Society (OHS) has completed an inventory of human remains and determined that there is a cultural affiliation between the human remains and Indian Tribes or Native Hawaiian organizations in this notice. The human remains were likely removed from Memaloose Island, Wasco County, Oregon by the Oregon Alpine Club (OAC).

DATES: Repatriation of the human remains in this notice may occur on or after August 11, 2025.

ADDRESSES: Send written requests for repatriation of the human remains in this notice to Nicole Yasuhara, Oregon Historical Society, 1200 SW Park Avenue, Portland, OR 97205, email nagpra@ohs.org.

SUPPLEMENTARY INFORMATION: This notice is published as part of the National Park Service's administrative responsibilities under NAGPRA. The determinations in this notice are the sole responsibility of the OHS, and additional information on the determinations in this notice, including the results of consultation, can be found in its inventory or related records. The National Park Service is not responsible for the determinations in this notice.

Abstract of Information Available

Human remains representing, at minimum, four individuals have been identified. No associated funerary objects are present. Sometime between 1887 and 1900, the human remains were likely removed from Memaloose Island, Wasco County, Oregon by the Oregon Alpine Club. Sometime after 1900, the ancestors were donated to the Oregon Historical Society. The OHS has no knowledge or record of the presence of any potentially hazardous substances used to treat the human remains.

Cultural Affiliation

Based on the information available and the results of consultation, cultural affiliation is clearly identified by the information available about the human remains described in this notice.

Determinations

The Oregon Historical Society has determined that:

• The human remains described in this notice represent the physical remains of four individuals of Native American ancestry.

• There is a connection between the human remains described in this notice and the Confederated Tribes and Bands of the Yakama Nation; Confederated Tribes of the Umatilla Indian Reservation; Confederated Tribes of the Warms Springs Reservation of Oregon; and the Nez Perce Tribe.

Requests for Repatriation

Written requests for repatriation of the human remains in this notice must be sent to the authorized representative identified in this notice under ADDRESSES. Requests for repatriation may be submitted by:

1. Any one or more of the Indian Tribes or Native Hawaiian organizations identified in this notice and, if joined to a request from one or more of the Indian Tribes, the Wanapum Band of Priest Rapids, a non-federally recognized Indian group.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after August 11, 2025. If competing requests for repatriation are received, the OHS must determine the most appropriate requestor prior to repatriation. Requests for joint repatriation of the human remains are considered a single request and not competing requests. The OHS is responsible for sending a copy of this notice to the Indian Tribes and Native Hawaiian organizations identified in this notice.

Authority: Native American Graves Protection and Repatriation Act, 25 U.S.C. 3003, and the implementing regulations, 43 CFR 10.10.

Dated: June 25, 2025.
Melanie O'Brien,
Manager, National NAGPRA Program.

[FR Doc. 2025-12828 Filed 7-9-25; 8:45 am]

BILLING CODE 4312-52-P